DEPARTMENT OF THE INTERIOR

Fish and Wildlife Service

Revised Recovery Plan for the Paiute Cutthroat Trout (Oncorhynchus clarki seleniris)

AGENCY: Fish and Wildlife Service, Interior.

ACTION: Notice of document availability.

SUMMARY: The U.S. Fish and Wildlife Service (we) announces the availability of the Revised Recovery Plan for the Paiute Cutthroat Trout (Oncorhynchus clarki seleniris). This recovery plan includes specific recovery criteria and measures to be taken in order to recover and delist the Paiute cutthroat trout.

ADDRESSES: Copies of this revised recovery plan are available by request from: U.S. Fish and Wildlife Service, Nevada Fish and Wildlife Office, 1340 Financial Boulevard, Suite 234, Reno, Nevada (telephone: 775-861-6300). An electronic copy of the revised recovery plan is also available at: http://endangered.fws.gov/recovery/index.html#plans.

FOR FURTHER INFORMATION CONTACT: Chad Mellison, Fish and Wildlife Biologist, at the above Reno address.

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. The Draft Revised Recovery Plan for the Paiute Cutthroat Trout was available for public comment from January 26, 2004, through March 26, 2004 (69 FR 3598). Information presented during the public comment period has been considered in the preparation of this final revised recovery plan, and is summarized in an appendix to the recovery plan. We will forward substantive comments regarding recovery plan implementation to appropriate Federal or other entities so that they can take these comments into account during the course of implementing recovery actions.

The Paiute cutthroat trout is native to the Silver King Creek in the East Fork Carson River drainage of Humboldt-Toiyabe National Forest, Alpine County, California. Hybridization with non-native salmonids is the primary threat to the species.

The original recovery plan for the Paiute cutthroat trout was published in 1985. This revised recovery plan incorporates recent research data and addresses the species' current status, threats, distribution, and recovery needs. It also addresses the effects of recovery actions on the mountain yellow-legged frog (Rana muscosa) and the Yosemite toad (Bufo canorus), which occur within the Silver King Creek drainage as well as in the vicinity of the out-of-basin population sites. This plan identifies actions to maintain ecosystem integrity as well as recover the Paiute cutthroat trout.

The revised recovery plan includes conservation measures designed to ensure that self-sustaining populations of Paiute cutthroat trout will once again occupy its historic range. Specific recovery actions focus on removing non-native salmonids and establishing a viable population in its historic range. The plan also identifies the need to protect pure populations which exist outside of the historic range. The ultimate goal of this revised recovery plan is to delist the Paiute cutthroat trout by implementing a variety of measures to attain the following criteria: (1) All non-native salmonids are removed from Silver King Creek and its tributaries downstream of Llewellyn Falls to fish barriers in Silver King Canyon; (2) a viable population of Paiute cutthroat trout occupies all historic habitat in Silver King Creek and its tributaries downstream of Llewellyn Falls to fish barriers in Silver King Canyon; (3) Paiute cutthroat trout habitat is maintained in all occupied streams; (4) the refuge populations in Corral and Coyote Creeks, Silver King Creek and tributaries above Llewellyn Falls, as well as out-of-basin populations are maintained as refugia and are secured from the introduction of other salmonid species; and (5) a long-term conservation plan and conservation agreement are developed, which will be the guiding management documents once Paiute cutthroat trout are delisted.

Authority: The authority for this action is section 4(f) of the Endangered Species Act, 16 U.S.C. 1533(f).

Dated: August 10, 2004.
Steve Thompson,
Manager, California/Nevada Operations Office, U.S. Fish and Wildlife Service.

[FR Doc. 04-20517 Filed 9-9-04; 8:45 am]

BILLING CODE 4310-55-P